POSTAL SERVICE

39 CFR Part 111

Signature Confirmation Service: Elimination of Signature Waiver Option

AGENCY: Postal Service.

ACTION: Proposed rule.

SUMMARY: This proposed rule provides a change to the Domestic Mail Manual (DMM™ ) that would eliminate the signature waiver option for Signature Confirmation™ service under DMM S919.1.10. The Postal Service™ is proposing this change because the signature waiver option is no longer necessary. Additionally, this option has caused confusion for customers.

DATES: Submit comments on or before October 4, 2004.

ADDRESSES: Mail or deliver written comments to the Manager, Mailing Standards, U.S. Postal Service, 475 L'Enfant Plaza SW., Room 3436, Washington, DC 20260-3436. Written comments may also be submitted via fax to (202) 268-4955. Copies of all written comments will be available for inspection and photocopying between 9 a.m. and 4 p.m., Monday through Friday, at the Postal Service Headquarters Library, 475 L'Enfant Plaza SW., 11th Floor North, Washington, DC 20260.

FOR FURTHER INFORMATION CONTACT: Donald Lagasse, (202) 268-7269, Donald.T.Lagasse@usps.gov.

SUPPLEMENTARY INFORMATION: Signature Confirmation service provides Postal Service customers with information about the date and time a mailpiece was delivered and, if delivery was attempted but not successful, the date and time of the delivery attempt. A delivery record, including the recipient's signature, is maintained by the Postal Service and is available to the customer via fax, e-mail, or mail, upon request. No acceptance record is kept at the office of mailing.

Signature Confirmation service currently includes a signature waiver option that allows the sender to waive the signature requirement and accept the Postal Service delivery employee's signature and date of delivery as proof of delivery. If a customer selects the signature waiver option, the customer is provided only with the date of delivery in the delivery record. The signature waiver option is not available when Signature Confirmation service is combined with other special services.

Signature waiver was requested initially by Delivery Confirmation™ service mailers that agreed to participate in testing the Signature Confirmation service but did not want to inconvenience their customers by requiring them to sign for their items. Now that Signature Confirmation service is fully implemented and widely recognized, the signature waiver feature is no longer necessary.

By definition, Signature Confirmation service is designed to provide a signature. Including an option for waiver of the signature for this service can be confusing for customers who wonder why the Postal Service would offer a signature service where the signature could be waived.

Therefore, the Postal Service proposes to eliminate the signature waiver option for Signature Confirmation service. Customers who do not need to obtain a signature but wish to know if their mailpiece was delivered would be able to do so using Delivery Confirmation service.

Although exempt from the notice and comment requirements of the Administrative Procedure Act [5 U.S.C. of 553(b), (c)] regarding proposed rulemaking by 39 U.S.C. 410(a), the Postal Service invites public comment on the following proposed revisions to the Domestic Mail Manual, incorporated in the Code of Federal Regulations (CFR). See 39 CFR 111.1.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

Domestic Mail Manual (DMM)

* * * * *

S SPECIAL SERVICES

* * * * *

S900 Special Postal Services

S910 Security and Accountability

* * * * *

S919 Signature Confirmation

1.10 BASIC INFORMATION

* * * * *

[Delete 1.10 in its entirety.]

* * * * *

We will publish an appropriate amendment to 39 CFR part 111 to reflect these changes if the proposal is adopted.

Neva Watson,
Attorney, Legislative.

[FR Doc. 04-19990 Filed 9-1-04; 8:45 am]

BILLING CODE 7710-12-P